DEPARTMENT OF STATE

[Public Notice 4223]

Secretary of State's Advisory Committee on Private International Law: Study Group on Reciprocal Enforcement of Child Support Obligations; Notice of Meetings

There will be a public meeting of a Study Group on International Child Support of the Secretary of State's Advisory Committee on Private International Law, on Wednesday, February 5, 2003, from 1 p.m. to 4 p.m. at the Hyatt Regency Capitol Hill, 400 New Jersey Avenue, NW., Washington, DC (Columbia Room, Ballroom level).

The purpose of this meeting is to assist the Department of State and the Office of Child Support Enforcement of the Department of Health and Human Services in preparing for the upcoming negotiation, under the auspices of the Hague Conference on Private International Law, of a new international convention on the international recovery of child support and other forms of family maintenance. The first session of this negotiation is scheduled for May 2003 in The Hague. Documents relevant to this project can be found on the web site of the Hague Conference (www.hcch.net).

The Study Group meetings are open to the public up to the capacity of the meeting rooms. Interested persons are invited to attend and to express their views. Persons who wish to have their views considered are encouraged, but not required, to submit written comments in advance of the meeting. Written comments should be submitted by e-mail to Mary Helen Carlson at carlsonmh@ms.state.gov. All comments will be made available to the public by request to Ms. Carlson via e-mail or by phone (202-776-8420).

Mary Helen Carlson,
Office of the Legal Adviser for Private International Law, Department of State.

[FR Doc. 03-1890 Filed 1-27-03; 8:45 am]

BILLING CODE 4710-08-P